AFRICAN DEVELOPMENT FOUNDATION

Sunshine Act Meeting; Board of Directors Meeting

TIME: 10 a.m. to 2 p.m.

PLACE: ADF Headquarters.

DATE: Wednesday, May 2, 2001.

STATUS: Closed.

Agenda

10 a.m.—Executive Session (CLOSED).

2 p.m.—Adjournment.

If you have any questions or comments, please direct them to Doris Mason Martin, General Counsel, and Director, Office of Policy, Planning and Outreach, who can be reached at (202) 673-3916.

Nathaniel Fields,
President.

[FR Doc. 01-10721 Filed 4-25-01; 3:35 pm]

BILLING CODE 6116-01-M